FEDERAL COMMUNICATIONS COMMISSION

Notice of Public Information Collection(s) Being Reviewed by the Federal Communications Commission for Extension Under Delegated Authority, Comments Requested

September 12, 2008.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments November 17, 2008. If you anticipate that you will be submitting comments, but find it difficult to do so within the period of time allowed by this notice, you should advise the contact listed below as soon as possible.

ADDRESSES: Direct all PRA comments to Nicholas A. Fraser, Office of Management and Budget (OMB), 202-395-5887, or via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION: OMB Control No.: 3060-0147.

Title: Section 64.804, Extension of Unsecured Credit for Interstate and Foreign Communication Services to Candidates for Federal Office.

Form No.: N/A.

Type of Review: Extension of a currently approved collection.

Respondents: Business or other for-profit.

Number of Respondents: 13 respondents; 13 responses.

Estimated Time per Response: 8 hours.

Frequency of Response: Annual reporting requirement and recordkeeping requirement.

Obligation to Respond: Required to obtain or retain benefits. Statutory authority for this information collection (IC) is contained in section 401 of the Federal Election Campaign Act of 1971, Public Law 92-225 together with the 1971 Revenue Act, Public Law 92-178.

Total Annual Burden: 104 hours.

Annual Cost Burden: N/A.

Privacy Act Impact Assessment: N/A.

Nature and Extent of Confidentiality: Ordinarily questions of a sensitive nature are not involved in the filed data. The Commission contends that areas in which information is required are fully subject to regulation and the issue of data being regarded as sensitive will arise on special circumstances only. In such circumstances, the respondent is instructed on the appropriate procedures to follow to safeguard data. If respondents wish to request confidential treatment of their documents, they may do so under 47 CFR 0.459 of the Commission's rules.

Needs and Uses: This collection will be submitted as an extension (no change in the reporting requirement and/or recordkeeping requirement) after this 60 day comment period to Office of Management and Budget (OMB) in order to obtain the full three year clearance. There is no change in the number of respondents/responses and estimated burden hours. Collection of this information is required by statute—section 401 of the Federal Election Campaign Act of 1971, Public Law 92-225, together with the 1971 Revenue Act, Public Law 92-178.

Pursuant to Section 64.804(c), a carrier must obtain a signed, written application for service which shall identify the applicant and the candidate and state whether or not the candidate assumes responsibility for charges, and which shall state that the applicant or applicants are liable for payment and that the applicant understands that service will be discontinued if payment is not rendered. Section 64.804(f) also requires that the records of each account, involving the extension by a carrier of unsecured credit to a candidate or person on behalf of such candidate for common carrier communications services shall be maintained by the carrier as to show separately, for interstate and foreign communications services all charges, credits, adjustments, and security, if any, and balance receivable. Section 64.804(g) requires communications common carriers with operating revenues exceeding $1 million who extend unsecured credit to a political candidate or person on behalf of such candidate for Federal office to report annually, data including due and outstanding balances.

The information is used by the Commission to monitor the extent of credit extended to candidates for Federal office.

OMB Control No.: 3060-0704.

Title: Sections 42.10, 42.11, 64.1900 and Section 254(g): Policies and Rules Concerning the Interstate, Interexchange Marketplace.

Form No.: N/A.

Type of Review: Extension of a currently approved collection.

Respondents: Business or other for-profit.

Number of Respondents: 700 respondents; 700 responses.

Estimated Time per Response: .50-2 hours.

Frequency of Response: Annual reporting requirements, third party disclosure requirements and recordkeeping requirement.

Obligation to Respond: Required to obtain or retain benefits. Statutory authority for this information collection is contained in section 254(g) of the Communications Act of 1934, as amended.

Total Annual Burden: 2,450 hours.

Annual Cost Burden: N/A.

Privacy Act Impact Assessment: N/A.

Nature and Extent of Confidentiality: The Commission is not requesting that the respondents submit confidential information to the Commission. If the Commission requests respondents to submit information which respondents believe is confidential, respondents may request confidential treatment of such information under 47 CFR section 0.459 of the Commission's rules.

Needs and Uses: The Commission will submit this information collection as an extension (no change in reporting, third party disclosure requirements, and/or recordkeeping requirements) after this 60 day comment period in order to obtain the full three year clearance from the OMB. The estimated number of respondents/responses has increased due to an increase in alternate providers (i.e., VoIP providers) and prepaid calling card providers. The estimated burden hours has been adjusted due to −81,887 hours due to a recalculation of each requirement. Finally, the total annual burden hours have significantly decreased because the Commission assumes that respondents have adapted to the requirements and therefore require less time to comply with the posting, disclosure, and certification requirements. Therefore, the Commission has decreased the estimated time per response for each of the requirements in this information collection. The four information collection requirements under this OMB Control Number are information disclosure requirements, internet posting requirements, recordkeeping requirements, and annual certification requirements. These requirements are necessary to provide consumers ready access to information concerning the rates, terms, and conditions governing the provision of interstate, domestic, Interexchange services offered by nondominant Interexchange carriers (IXCs) in a detariffed and increasingly competitive environment. These information collections are consistent with OMB's “strong recommendation” earlier in this proceeding that the Commission consider mechanisms to make pricing information available to consumers, State regulators, and other interested parties.

The information collected under the information disclosure requirement and the Internet posting requirement must be disclosed to the public to ensure that consumers have access to the information they need to select a telecommunications carrier and to bring to the Commission's attention possible violations of the Communications Act without a specific public disclosure requirement. The information collected under the recordkeeping and certification requirements will be used by the Commission to ensure that affected Interexchange carriers fulfill their obligations under the Communications Act, as amended.

Federal Communications Commission.
Marlene H. Dortch,
Secretary.

[FR Doc. E8-21864 Filed 9-17-08; 8:45 am]

BILLING CODE 6712-01-P